DEPARTMENT OF DEFENSE

Department of the Navy

Availability of Government-Owned Inventions for Licensing

AGENCY: Department of the Navy, DOD.

ACTION: Notice.

SUMMARY: The inventions listed below are assigned to the United States Government as represented by the Secretary of the Navy and are made available for licensing by the Department of the Navy.

Copies of patents cited are available from the Commissioner of Patents and Trademarks, Washington, D.C. 20231, for $3.00 each. Requests for copies of patents must include the patent number. Copies of patent applications cited are available from the National Technical Information Service (NTIS), Springfield, Virginia 22161 for $6.95 each ($10.95 outside North American Continent). Requests for copies of patent applications must include the patent application serial number. Claims are deleted from the copies of patent applications sold to avoid premature disclosure.

The following patents and patent applications are available for licensing:

Patent 5,895,629: RING OSCILLATOR BASED CHEMICAL SENSOR; filed 25 November 1997; patented 20 April 1999.//Patent 5,900,835: COHERENT HIDDEN MARKOV MODEL; filed 9 July 1998; patented 4 May 1999.//Patent 5,903,483: FREQUENCY DOMAIN KERNEL PROCESSOR; filed 12 August 1997; patented 11 May 1999.//Patent 5,917,458: FREQUENCY SELECTIVE SURFACE INTEGRATED ANTENNA SYSTEM; filed 8 September 1995; patented 29 June 1999.//Patent 5,919,333: BRAKED LINEAR NIPPER; filed 19 November 1997; patented 6 July 1999.//Patent 5,920,065: OPTICALLY ACTIVATED BACK-TO-BACK PIN DIODE SWITCH HAVING EXPOSED INTRINSIC REGION; filed 14 November 1997; patented 6 July 1999.//Patent 5,921,589: VIBRATION ISOLATING FLANGE ASSEMBLY; filed 29 September 1997; patented 13 July 1999.//Patent 5,922,317: ACCELERATED GAS REMOVAL FROM DIVERS' TISSUES UTILIZING GAS METABOLIZING BACTERIA; filed 6 May 1997; patented 13 July 1999.//Patent 5,922,435: CERAMIC POLYMER COMPOSITE DIELECTRIC MATERIAL; filed 6 January 1999; patented 13 July 1999.//Patent 5,922,552: COMPOUNDS LABELED WITH CYANATE OR THIOCYANATE METAL COMPLEXES FOR DETECTING BY INFRARED SPECTROSCOPY; filed 9 June 1998; patented 13 July 1999.//Patent 5,923,030: SYSTEM AND METHOD FOR RECOVERING A SIGNAL OF INTEREST FROM A PHASE MODULATED SIGNAL USING QUADRATURE SAMPLING; filed 10 November 1997; patented 13 July 1999.//Patent 5,923,175: APPARATUS FOR CONTACTLESS MEASUREMENT OF THE ELECTRICAL RESISTANCE OF A CONDUCTOR; filed 3 June 1997; patented 13 July 1999.//Patent 5,923,617: FREQUENCY-STEERED ACOUSTIC BEAM FORMING SYSTEM AND PROCESS; filed 5 February 1997; patented 13 July 1999.//Patent 5,923,776: OBJECT EXTRACTION IN IMAGES; filed 23 May 1996; patented 13 July 1999.//Patent 5,924,109: METHOD AND APPARATUS FOR AUTOMATIC GENERATION OF EXTERNAL INTERFACE SPECIFICATIONS; filed 3 March 1997; patented 13 July 1999.//Patent 5,924,453: PISTON AND CYLINDER ACTUATED POLYMER MIXING VALVE; filed 20 April 1998; patented 20 July 1999.//Patent 5,924,587: PERFORMANCE ORIENTED SHIPPING CONTAINER; filed 11 August 1997; patented 20 July 1999.//Patent 5,925,370: BIOREPELLENT MATRIX COATING; filed 4 December 1997; patented 20 July 1999.//Patent 5,925,475: PHTHALONITRILE THERMOSET POLYMERS AND COMPOSITES CURED WITH HALOGEN-CONTAINING AROMATIC AMINE CURING AGENTS; filed 2 October 1997; patented 20 July 1999.//Patent 5,926,270: SYSTEM AND METHOD FOR THE REMOTE DETECTION OF ORGANIC MATERIAL IN ICE IN SITU; filed 14 October 1997; patented 20 July 1999.//Patent 5,926,439: FLEXTENSIONAL DUAL-SECTION PUSH-PULL UNDERWATER PROJECTOR; filed 21 December 1998; patented 20 July 1999.//Patent 5,927,149: HIGH-TORQUE QUIET GEAR; filed 14 July 1995; patented 27 July 1999.//Patent 5,928,483: ELECTROCHEMICAL CELL HAVING A BERYLLIUM COMPOUND COATED ELECTRODE; filed 12 November 1997; patented 27 July 1999.//Patent 5,928,545: CURE SHRINKAGE MEASUREMENT; filed 23 July 1997; patented 27 July 1999.//Patent 5,929,199: FLUOROALIPHATIC CYANATE RESINS FOR LOW DIELECTRIC APPLICATIONS; filed 13 January 1998; patented 27 July 1999.//Patent 5,929,572: ELECTROLUMINESCENT ARRAYS LAYERED TO FORM A VOLUMETRIC DISPLAY; filed 19 September 1996; patented 27 July 1999.//Patent 5,930,165: FRINGE FIELD SUPERCONDUCTING SYSTEM; filed 31 October 1997; patented 27 July 1999.//Patent 5,930,201: ACOUSTIC VECTOR SENSING SONAR SYSTEM; filed 27 January 1998; patented 27 July 1999.//Patent 5,930,203: FIBER OPTIC HYDROPHONE ARRAY; filed 10 August 1998; patented 27 July 1999.//Patent 5,930,313: METHOD AND APPARATUS FOR TRANSPORTING AN INTENSE ION BEAM; filed 3 December 1991; patented 27 July 1999.//Patent 5,930,580: METHOD FOR FORMING POROUS METALS; filed 30 April 1998; patented 27 July 1999.//Patent 5,931,248: DURABLE ROLL-STABILIZING KEEL SYSTEM FOR HOVERCRAFT; filed 15 September 1997; patented 3 August 1999.//Patent 5,932,006: BAF2/GAAS ELECTRONIC COMPONENTS; filed 25 March 1996; patented 3 August 1999.//Patent 5,932,091: OILY WASTE WATER TREATMENT SYSTEM; filed 22 January 1998; patented 3 August 1999.//Patent 5,932,335: OXIDATION RESISTANT FIBER-REINFORCED COMPOSITES WITH POLY (CARBORANE-SILOXANE/SILANE-ACETYLENE); filed 31 December 1996; patented 3 August 1999.//Patent 5,932,835: LINE CHARGE INSENSITIVE MUNITION WARHEAD; filed 12 September 1997; patented 3 August 1999.//Patent 5,932,837: NON-TOXIC HYPERGOLIC MISCIBLE BIPROPELLANT; filed 22 December 1997; patented 3 August 1999.//Patent 5,933,117: FLEXIBLE FERRITE LOADED LOOP ANTENNA ASSEMBLY; filed 24 July 1996; patented 3 August 1999.//Patent 5,933,446: BEAMFORMER WITH ADAPTIVE PROCESSORS; filed 2 October 1995; patented 3 August 1999.//Patent 5,933,808: METHOD AND APPARATUS FOR GENERATING MODIFIED SPEECH FROM PITCH-SYNCHRONOUS SEGMENTED SPEECH WAVEFORMS; filed 7 November 1995; patented 3 August 1999.//Patent 5,934,609: DEFORMABLE PROPELLER BLADE AND SHROUD; filed 1 April 1997; patented 10 August 1999.//Patent 5,934,622: MICRO-ELECTRODE AND MAGNET ARRAY FOR MICROTURBULENCE CONTROL; filed 1 May 1997; patented 10 August 1999.//Patent 5,934,911: WATERPROOF QUICK DISCONNECT SLIP RING DEVICE; filed 14 April 1997; patented 10 August 1999.//Patent 5,936,025: CERAMIC POLYMER COMPOSITE DIELECTRIC MATERIAL; filed 6 March 1997; patented 10 August 1999.//Patent 5,937,078: TARGET DETECTION METHOD FROM PARTIAL IMAGE OF TARGET; filed 10 April 1996; patented 10 August 1999.//Patent 5,937,543: FOOTWEAR HAVING A VARIABLE SIZED INTERIOR; filed 22 August 1997; patented 17 August 1999.//Patent 5,938,545: VIDEO SYSTEM FOR DETERMINING A LOCATION OF A BODY IN FLIGHT; filed 5 June 1997; patented 17 August 1999.//Patent 5,938,999: WET-SPINNING FIBER PROCESS PROVIDING CONTROLLED MORPHOLOGY OF THE WET-SPUN FIBER; filed 14 February 1997; patented 17 August 1999.//Patent 5,939,665: BRISK MANEUVERING DEVICE FOR UNDERSEA VEHICLES; filed 12 February 1996; patented 17 August 1999.//Patent 5,939,958: MICROSTRIP DUAL MODE ELLIPTIC FILTER WITH MODAL COUPLING THROUGH PATCH SPACING; filed 18 February 1997; patented 17 August 1999.//Patent 5,940,046: STANDARDIZED MODULAR ANTENNA SYSTEM; filed 14 April 1997; patented 17 August 1999.//Patent 5,941,481: DEVICE FOR INTERACTIVE TURBULENCE CONTROL IN BOUNDARY LAYERS; filed 7 July 1997; patented 24 August 1999.//Patent 5,941,744: VECTORED PROPULSION SYSTEM FOR SEA-GOING VESSELS; filed 9 September 1997; patented 24 August 1999.//Patent 5,942,206: CONCENTRATION OF ISOTOPIC HYDROGEN BY TEMPERATURE GRADIENT EFFECT IN SOLUBLE METAL; filed 23 August 1991; patented 24 August 1999.//Patent 5,942,687: METHOD AND APPARATUS FOR IN SITU MEASUREMENT OF CORROSION IN FILLED TANKS; filed 1 April 1998; patented 24 August 1999.//Patent 5,942,712: METHOD AND APPARATUS FOR RETAINING WIRES IN A CYLINDRICAL TUBE; filed 9 October 1997; patented 24 August 1999.//Patent 5,942,748: LIQUID LEVEL SENSOR AND DETECTOR; filed 26 February 1997; patented 24 August 1999.//Patent 5,944,762: HIERARCHICAL TARGET INTERCEPT FUZZY CONTROLLER WITH FORBIDDEN ZONE; filed 1 April 1996; patented 31 August 1999.//Patent 5,944,784: OPERATING METHODS FOR A UNIVERSAL CLIENT DEVICE PERMITTING A COMPUTER TO RECEIVE AND DISPLAY INFORMATION FROM SEVERAL SPECIAL APPLICATIONS SIMULTANEOUSLY; filed 30 September 1997; patented 31 August 1999.//Patent 5,945,036: DUAL ENERGY DEPENDENT FLUIDS; filed 22 January 1992; patented 31 August 1999.//Patent 5,945,666: HYBRID FIBER BRAGG GRATING/LONG PERIOD FIBER GRATING SENSOR FOR STRAIN/TEMPERATURE DISCRIMINATION; filed 19 May 1997; patented 31 August 1999.//Patent 5,945,966: COMPUTER PROGRAM FOR A THREE-DIMENSIONAL VOLUMETRIC DISPLAY; filed 2 October 1996; patented 31 August 1999.//Patent 5,946,272: IMAGE CONVERSION FOR A SCANNING TOROIDAL VOLUME SEARCH SONAR; filed 17 August 1998; patented 31 August 1999.//Patent 5,947,579: UNDERWATER CHEMILUMINESCENT DIVING LIGHT; filed 29 July 1997; patented 7 September 1999.//Patent 5,948,621: DIRECT MOLECULAR PATTERNING USING A MICRO-STAMP GEL; filed 30 September 1997; patented 7 September 1999.//Patent 5,948,959: CALIBRATION OF THE NORMAL PRESSURE TRANSFER FUNCTION OF A COMPLIANT FLUID-FILLED CYLINDER; filed 29 May 1997; patented 7 September 1999.//Patent 5,948,993: AMPLIFIED SHEAR TRANSDUCER; filed 2 March 1998; patented 7 September 1999.//Patent 5,949,016: ENERGETIC MELT CAST EXPLOSIVES; filed 29 July 1991; patented 7 September 1999.//Patent 5,949,361: MULTI-STAGE DELTA SIGMA MODULATOR WITH ONE OR MORE HIGH ORDER SECTIONS; filed 12 May 1997; patented 7 September 1999.//Patent 5,949,741: DUAL-SECTION PUSH-PULL UNDERWATER PROJECTOR; filed 21 December 1998; patented 7 September 1999.//Patent 5,949,835: STEADY-STATE, HIGH DOSE NEUTRON GENERATION AND CONCENTRATION APPARATUS AND METHOD FOR DEUTERIUM ATOMS; filed 1 July 1991; patented 7 September 1999.//Patent 5,949,935: INFRARED OPTICAL FIBER COUPLER; filed 26 November 1997; patented 7 September 1999.//Patent 5,950,004: MODEL-BASED PROCESS FOR TRANSLATING TEST PROGRAMS; filed 13 September 1996; patented 7 September 1999.//Patent 5,951,170: TAPERED RESILIENT SLEEVE BEARING ASSEMBLY; filed 3 April 1998; patented 14 September 1999.//Patent 5,951,346: AIR-DELIVERED POSITION MARKING DEVICE AND METHOD; filed 8 December 1997; patented 14 September 1999.//Patent 5,951,607: AUTONOMOUS CRAFT CONTROLLER SYSTEM FOR LANDING CRAFT AIR CUSHIONED VEHICLE; filed 6 March 1997; patented 14 September 1999.//Patent 5,952,458: PROCESS FOR PREPARING A VINYL TERMINATED POLYMER; filed 24 September 1998; patented 14 September 1999.//Patent 5,952,601: RECOILLESS AND GAS-FREE PROJECTILE PROPULSION; filed 23 April 1998; patented 14 September 1999.//Patent 5,952,957: WAVELET TRANSFORM OF SUPER-RESOLUTIONS BASED ON RADAR AND INFRARED SENSOR FUSION; filed 1 May 1998; patented 14 September 1999.//Patent 5,953,921: TORSIONALLY RESONANT TOROIDAL THERMOACOUSTIC REFRIGERATOR; filed 13 January 1998; patented 21 September 1999.//Patent 5,955,698: AIR-LAUNCHED SUPERCAVITATING WATER-ENTRY PROJECTILE; filed 28 January 1998; patented 21 September 1999.//Patent 5,955,849: COLD FIELD EMITTERS WITH THICK FOCUSING GRIDS; filed 25 February 1994; patented 21 September 1999.//Patent 5,956,171: ELECTRO-OPTIC MODULATOR AND METHOD; filed 31 July 1996; patented 21 September 1999.//Patent 5,957,077: GUIDE TUBE BEND FLUID BEARING; filed 23 May 1997; patented 28 September 1999.//Patent 5,957,427: ISOLATION MOUNTING DEVICE; filed 14 May 1996; patented 28 September 1999.//Patent 5,957,668: BRAKE ACTUATION MEANS FOR A ROTARY PUMP SYSTEM; filed 17 January 1996; patented 28 September 1999.//Patent 5,958,229: ELECTROLYTIC DISINFECTANT SYSTEM; filed 27 March 1998; patented 28 September 1999.//Patent 5,959,233: LINE CHARGE FASTENER AND DETONATING CORD GUIDE; filed 2 March 1998; patented 28 September 1999.//Patent 5,959,753: ULTRA HIGH BIT RATE ALL OPTICAL COMMUNICATION SYSTEM; filed 25 January 1994; patented 28 September 1999.//Patent 5,960,026: ORGANIC WASTE DISPOSAL SYSTEM; filed 9 September 1997; patented 28 September 1999.//Patent application 08/939,410: CORROSION-RESISTANT COATING PREPARED BY THE THERMAL DECOMPOSITION OF LITHIUM PERMANGANATE; filed 29 September 1997.//Patent application 08/982,892: ELECTROCHEMICAL FABRICATION OF CAPACITORS; filed 2 December 1997.//Patent application 09/105,087: CARBON-BASED COMPOSITES DERIVED FROM PHTHALONITRILE RESINS; filed 26 June 1998.//Patent application 09/115,073: TOW CABLE WITH CONDUCTING POLYMER JACKET FOR MEASURING THE TEMPERATURE OF WATER COLUMN; filed 6 July 1998.//Patent application 09/126,222: DEVICE FOR TENSIONING SHEET MEMBERS; filed 30 July 1998.//Patent application 09/126,859: SHAPE MEMORY ACTUATOR SYSTEM; filed 31 July 1998.//Patent application 09/133,852: ADVANCED VERTICAL ARRAY BEAMFORMER; filed 13 August 1998.//Patent application 09/152,477: ACOUSTIC BOLT REMOVAL; filed 11 September 1998.//Patent application 09/158,974: CAVITATION-RESISTANT SONAR ARRAY; filed 17 September 1998.//Patent application 09/162,633: GROMMET HAVING METAL INSERT; filed 28 September 1998.//Patent application 09/173,612: QUADRIFILAR HELIX ANTENNA; filed 13 October 1998.//Patent application 09/226,628: BROADBAND DIRECT FED PHASED ARRAY ANTENNA COMPRISING STACKED PATCHES; filed 21 December 1998.//Patent application 09/246,195: LARGE PANEL SURFACE PLANER; filed 11 January 1999.//Patent application 09/246,208: FUZZY LOGIC BASED SYSTEM AND METHOD FOR INFORMATION PROCESSING WITH UNCERTAIN INPUT DATA; filed 20 January 1999.//Patent application 09/246,212: GUIDANCE SYSTEM; filed 15 January 1999.//Patent application 09/246,767: METHOD AND SYSTEM FOR TRANSIENT SIGNAL DETECTION; filed 1 February 1999.//Patent application 09/252,243: POWER ENVELOPE SHAPER; filed 14 January 1999.//Patent application 09/267,903: A RECONFIGURABLE ARRAY FOR POSITIONING MEDICAL SENSORS; filed 2 March 1999.//Patent application 09/267,904: PROPELLER DEFLECTION SNUBBER; filed 2 March 1999.//Patent application 09/267,905: MAGNESIUM-SOLUTION PHASE CATHOLYTE SEAWATER ELECTROCHEMICAL SYSTEM; filed 2 March 1999.//Patent application 09/267,908: TOW CABLE TEMPERATURE PROFILER; filed 8 March 1999.//Patent application 09/267,909: ROLLER GRAPNEL; filed 8 March 1999.//Patent application 09/267,916: CALIBRATED STOP BOLT FOR LONGITUDINAL SHOCK TEST FIXTURE; filed 2 March 1999.//Patent application 09/272,744: DATA ACQUISITION SYSTEM INCLUDING DATA TRANSMISSION CONTROLLER FOR OCTAVELY NESTED ACOUSTIC LINE ARRAYS; filed 10 March 1999.//Patent application 09/273,817: ACOUSTICALLY DRIVEN PLASMA ANTENNA; filed 22 March 1999.//Patent application 09/285,173: DATA REDUCTION SYSTEM FOR IMPROVEMENT CLASSIFIER PERFORMANCE; filed 18 March 1999.//Patent application 09/285,175: PLASMA ANTENNA WITH CURRENTS GENERATED BY OPPOSED PHOTON BEAMS; filed 23 March 1999.//Patent application 09/285,176: HORIZONTAL PLASMA ANTENNA USING PLASMA DRIFT CURRENTS; filed 23 March 1999.//Patent application 09/286,844: FIBER OPTIC CABLE FURCATION UNIT; filed 6 April 1999.//Patent application 09/301,383: HYPOTHESIS SELECTION FOR EVIDENTIAL REASONING SYSTEMS; filed 27 April 1999.//Patent application 09/310,376: INFRARED FIBER IMAGER; filed 12 May 1999.//Patent application 09/310,681: HIGH RESOLUTION IMAGING USING OPTICALLY TRANSPARENT PHOSPHORS; filed 1 April 1999.//Patent application 09/311,900: ASSEMBLY AND METHOD FOR FURCATING OPTICAL FIBERS; filed 14 May 1999.//Patent application 09/313,311: DEPTH SENSITIVE MECHANICAL ACOUSTIC SIGNAL GENERATING DEVICE; filed 17 May 1999.//Patent application 09/313,575: FUZZY LOGIC-BASED MODEL ASSESSMENT SYSTEM FOR CONTACT TRACKING; filed 10 May 1999.//Patent application 09/317,084: STANDING WAVE PLASMA ANTENNA WITH PLASMA REFLECTOR; filed 21 May 1999.//Patent application 09/317,085: PLASMA ANTENNA WITH TWO-FLUID IONIZATION CURRENT; filed 21 May 1999.//Patent application 09/317,086: PLASMA ANTENNA WITH ELECTRO-OPTIC MODULATOR; filed 21 May 1999.//Patent application 09/317,088: SOFT-BODIED, TOWABLE, ACTIVE ACOUSTIC MODULE; filed 21 May 1999.//Patent application 09/317,089: METHOD AND SYSTEM FOR DETERMINING THE PROBABLE LOCATION OF A CONTACT; filed 21 May 1999.//Patent application 09/317,090: LOW VOLTAGE POWER SYSTEM FOR TOWED ACOUSTIC ARRAY; filed 21 May 1999.//Patent application 09/335,820: AN ASSEMBLY AND METHOD FOR POSITIONING A MEASUREMENT PROBE PROXIMATE A TEST BODY DISPOSED FOR A FLUID TUNNEL TEST; filed 18 June 1999.//Patent application 09/335,821: BOTTOM-DEPLOYED, UPWARD LOOKING HYDROPHONE ASSEMBLY; filed 18 June 1999.//Patent application 09/337,221: MULTI-DEPTH ACOUSTIC SIGNAL GENERATING DEVICE; filed 7 June 1999.//Patent application 09/339,917: METHODS AND MATERIALS FOR SELECTIVE MODIFICATION OF PHOTOPATTERNED POLYMER FILMS; filed 28 June 1999.//Patent application 09/349,355: SYSTEM AND METHOD FOR MONITORING RISK IN A SYSTEM DEVELOPMENT PROGRAM; filed 8 July 1999.//Patent application 09/349,356: AN INFORMATION SYSTEM FOR HANDLING CONTRACT DOCUMENTATION; filed 1 July 1999.//Patent application 09/353,871: ELECTRONIC DEVICES GROWN ON OFF-AXIS SAPPHIRE SUBSTRATE; filed 15 July 1999.//Patent application 09/363,819: MOLECULARLY-IMPRINTED MATERIAL MADE BY TEMPLATE-DIRECTED SYNTHESIS; filed 30 July 1999.//Patent application 09/372,107: QUICK ZERO KNOB; filed 11 August 1999.//Patent application 09/372,108: SHOCK ABSORBING MOUNT FOR ADJUSTABLE BARREL; filed 11 August 1999.//Patent application 09/399,474: DEPTHIMETER; filed 13 September 1999.//

FOR FURTHER INFORMATION CONTACT: Mr. John G. Wynn, Associate Counsel, Intellectual Property, Office of Naval Research (Code 00CC), Arlington, VA 22217-5660, telephone (703) 696-4004.

(Authority: 35 U.S.C. 207; 37 CFR Part 404.)

Dated: March 22, 2000.
C.G. Carlson,
Major, U.S. Marine Corps, Alternate Federal Register Liaison Officer.

[FR Doc. 00-7904 Filed 3-29-00; 8:45 am]

BILLING CODE 3810-FF-U